CIVIL RIGHTS COLD CASE RECORDS REVIEW BOARD

[Agency Docket Number: CRCCRRB-2025-0021-N]

Notice of Formal Determination on Records Release

AGENCY: Civil Rights Cold Case Records Review Board.

ACTION: Notice.

SUMMARY: The Civil Rights Cold Case Records Review Board previously reviewed and made formal disclosure determinations on records related to civil rights cold case incident 2024-003-011 in which the National Archives and Records Administration (NARA) proposed postponements. NARA provided additional information about seven postponements that led the Review Board to make new formal determinations on July 30, 2025. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Previous Review Board decision | New Review Board decision
2024-003-011 | 2024-NARA-03-0017 through 2024-NARA-03-0019 | Reject | Approve.
2024-003-011 | 2024-NARA-03-0074 through 2024-NARA-03-0077 | Reject | Approve.

Authority: Public Law 115-426, 132 Stat. 5489 (44 U.S.C. 2107).

Dated: August 19, 2025.
Stephannie Oriabure,
Chief of Staff.

[FR Doc. 2025-16085 Filed 8-21-25; 8:45 am]

BILLING CODE 6820-SY-P